DEPARTMENT OF COMMERCE

National Telecommunications and Information Administration

Docket No. 090402625-9626-01

Public Telecommunications Facilities Program: Notice of Availability of Funds

AGENCY: National Telecommunications and Information Administration (NTIA), U.S. Department of Commerce.

ACTION: Notice of Availability of Funds; Catalog of Federal Domestic Assistance.

SUMMARY: On October 20, 2008, the National Telecommunications and Information Administration (NTIA) announced the closing date for receipt of applications for the Public Telecommunications Facilities Program (PTFP). NTIA now announces that $18 million has been appropriated for fiscal year 2009 grants.

DATES: Funds will be available for applications submitted by the originally announced deadline of December 18, 2008, as well as applications for certain digital television Distributed Transmission System (DTS) projects and replacement translator projects that must be received prior to 5 p.m. Eastern Daylight Time (Closing Time), Monday, May 18, 2009.

ADDRESSES: To obtain a printed application package, submit completed applications, or send any other correspondence, write to PTFP at the following address: NTIA/PTFP, Room H-4812, U.S. Department of Commerce, 1401 Constitution Avenue, N.W., Washington, DC 20230. Application materials may be obtained electronically via the Internet at http://www.ntia.doc.gov/ptfp or http://www.grants.gov.

FOR FURTHER INFORMATION CONTACT: William Cooperman, Director, Public Broadcasting Division, telephone: (202) 482-5802; fax: (202) 482-2156; or wcooperman@ntia.doc.gov. Information about the PTFP also can be obtained electronically via the Internet at http://www.ntia.doc.gov/ptfp.

SUPPLEMENTARY INFORMATION: On October 20, 2008, NTIA published a Notice of Closing Date for Solicitation of Applications for the FY 2009 PTFP grant round. The Notice established Thursday, December 18, 2008 as the Closing Date.¹ The Notice indicated that “[i]ssuance of grants is subject to the availability of FY 2009 funds. At this time, the Congress has passed the Consolidated Security, Disaster Assistance, and Continuing Appropriations Act, 2009. Public Law No. 110-329 (2008), to fund operations of the PTFP through March 6, 2009. Further notice will be made in the Federal Register about the final status of funding for this program at the appropriate time.” ²

¹ Public Telecommunications Facilities Program: Closing Date, 73 Fed. Reg. 62,258 (Oct. 20, 2008) (PTFP Closing Date Notice).

² 73 Fed. Reg. at 62,258.

As a result of subsequent Federal Communications Commission actions authorizing new digital television services, NTIA extended the Closing Date to May 18, 2009, for Distributed Transmission System (DTS) projects and for replacement digital television translators.³

³ Public Telecommunications Facilities Program: Notice of Amended Closing Date for Solicitation of Applications, 73 Fed. Reg. 74,709 (Dec. 9, 2008). Public Telecommunications Facilities Program; Notice of Amended Solicitation of Applications, 74 Fed. Reg. 5643 (Jan. 30, 2009).

On March 11, 2009, the Omnibus Appropriations Act, 2009, was signed into law.⁴ The Act appropriated $18 million for public telecommunications facilities planning and construction grants. These funds are now available to fund applications submitted in response to the Federal Register notices referenced above.

⁴ See Pub. L. No. 111-8.

Dated: April 3, 2009.
Dr. Bernadette McGuire-Rivera,
Associate Administrator, Office of Telecommunications and Information Applications.

[FR Doc. E9-8003 Filed 4-7-09; 8:45 am]

BILLING CODE 3510-60-S